DEPARTMENT OF THE INTERIOR

Bureau of Indian Affairs

Land Acquisitions: Pueblo of Santo Domingo

AGENCY: Bureau of Indian Affairs, Interior.

ACTION: Notice of final agency determination to take land into trust.

SUMMARY: The Assistant Secretary—Indian Affairs, made a final agency determination to acquire approximately 7,393.75 acres of land into trust for the Pueblo of Santo Domingo on January 27, 2012.

FOR FURTHER INFORMATION CONTACT: Douglas Hickman, Realty Officer, Southern Pueblos Agency, Bureau of Indian Affairs, 1001 Indian School Road NW., Albuquerque, NM 87104-2303; Telephone (505) 563-3680, douglas.hickman@bia.gov.

SUPPLEMENTARY INFORMATION: This notice is published in the exercise of authority delegated by the Secretary of the Interior to the Assistant Secretary—Indian Affairs by 209 Departmental Manual 8.1.

This acquisition is mandatory under 25 U.S.C. 2216(c); the Santo Domingo Pueblo Claims Settlement Act of 2000, Public Law 106-425, 114 Stat. 1890, 25 U.S.C. 1777 through 1777e, dated November 1, 2000; and Section 7 of the Settlement Agreement between the United States and the Pueblo of Santo Domingo dated May 26, 2000. The approximately 7,393.75 acres are located in Sandoval and Santa Fe Counties, New Mexico, and are described as follows:

New Mexico Principal Meridian (NMPM)

Tract A—La Majada Mesa

Township 15 North, Range 6 and 7 East, and Township 16 North, Range 6 East, NMPM, Sandoval and Santa Fe Counties, New Mexico

A parcel of land described as follows: beginning at a monument marking the position for the 3 Mile corner on the north boundary of the Santo Domingo Pueblo Grant (as originally established by Wendell V. Hall in 1907), on the south boundary of the Santa Cruz Spring Tract, thence S. 87°11′ E., along the south boundary of the Santa Cruz Spring Tract, identical with the north boundary of the Santo Domingo Pueblo Grant (Hall Survey), a distance of 2642.5 feet to the monumented 3½; Mile corner, thence continuing along the south boundary of the Santa Cruz Spring Tract, identical with the north boundary of the Santo Domingo Pueblo Grant (Hall Survey), on the following courses and distances: S. 87°13′ E., a distance of 2637.3 feet to the monumented 4 Mile corner, thence S. 87°11′ E., a distance of 2640.1 feet to the monumented 4½ Mile corner, thence S. 87°12′ E., a distance of 2640.1 feet to the monumented 5 Mile corner, thence S. 87°13′ E., a distance of 2640.1 feet to the monumented 5½ Mile corner, thence S. 87°15′ E., a distance of 1268.1 feet to a monumented point of intersection with the west boundary of the Mesita de Juana Lopez Land Grant, whence the NW corner of the Mesita de Juana Lopez Land Grant bears (BLM record measurement, as shown on the plat approved July 8, 1985) N. 1°41′ W. (true mean geodetic bearing), 909.81 feet (13.785 chains) distance; thence on a new line in a southerly direction on the following described courses and distances along a line marking the west boundary of the Mesita de Juana Lopez Land Grant: S. 0°44′ E., a distance of 733.4 feet to the monumented 36 Mile corner, thence S. 0°30′ W., a distance of 5243.2 feet to the monumented 35 Mile corner, thence S. 0°35′ W., a distance of 1087.1 feet to a monumented point of intersection with the south boundary of the La Majada Grant (also being the original north boundary of the Santo Domingo Pueblo Grant prior to the Hall Survey); thence in a westerly direction on the following described courses and distances along a new line marking the south boundary of the La Majada Grant (also being the original north boundary of the Santo Domingo Pueblo Grant prior to the Hall Survey): N. 72°26′ W., a distance of 810.6 feet to the monumented 2½ Mile corner, thence N. 72°17′ W., a distance of 2665.2 feet to the monumented 3 Mile corner, thence N. 73°24′ W., a distance of 2646.6 feet to the monumented 3½ Mile corner, thence N. 72°59′ W., a distance of 2656.5 feet to the monumented 4 Mile corner, thence N. 73°04′ W., a distance of 2656.3 feet to the monumented 4½ Mile corner, thence N. 73°04′ W., a distance of 1201.2 feet to a monumented point marked “PC-1” set by the U.S. Forest Service in 1983; thence in a northwesterly direction on the following described courses and distances along a new line marking the east boundary of lands in possession of the Santo Domingo Pueblo: N. 48°38′ W., a distance of 1601.4 feet to a point monumented with a New Mexico State Highway Right-of-Way “T” rail (This point marks a property corner angle point as well as the location of the right-of-way easement granted by the U.S. Forest Service to the New Mexico State Highway Department for State Road 16 and United Pueblos Highway 90. This easement granted by the United States of America through the Forest Service, Department of Agriculture, was recorded with Sandoval County on May 18, 1983, in Misc. Records Vol. 154, pages 456-461), station designation is 183+35.22 (This station is shown on Sheet 5 of 5 of the New Mexico State Highway Department Right of Way Map, New Mexico Project No. BIA-SP-2545(200), revised March 30, 1977), thence N. 42°57′ W., a distance of 6727.4 feet to a point marked with a ⅜ inch diameter iron rod, thence N. 51°09′ W., a distance of 963.2 feet to a point marked with a ⅜ inch diameter iron rod, thence N. 43°33′ W., a distance of 8291.2 feet to a point marked with a ⅜ inch diameter iron rod set in a fence corner, being a point of intersection with the south boundary of the Pueblo de Cochiti Grant; thence on a new line along the south boundary of the Pueblo de Cochiti Grant on a bearing of N. 89°22′ E., a distance of 210.7 feet to a monumented point marked “AP-5, SCS”, whence the ½ Mile corner on the south boundary of the Pueblo de Cochiti Grant bears (BLM record measurement, as shown on the plat approved July 8, 1985) N. 89°51′ E. (true mean geodetic bearing), 975.48 feet (14.78 chains) distance; thence on a new line along the west boundary of the Santa Cruz Spring Tract, on the following described courses and distances: S. 44°01′ E., a distance of 1213.6 feet to a monumented point marked “2 M-SCS”, thence S. 44°01′ E., a distance of 4807.3 feet to a monumented point marked “AP-4, SCS”, thence a distance of 99.8 feet along the arc of a curve to the left having a radius of 5629.6 feet and a chord bearing and distance of S. 44°30′ E., 98.5 feet, to a monumented point marked “AP-3, SCS”, thence S. 45°06′ E., a distance of 2973.8 feet to a monumented point marked “AP-2, SCS”, thence a distance of 212.3 feet along the arc of a curve to the right having a radius of 5829.6 feet and a chord bearing and distance of S. 44°06′ E., 212.3 feet, to a monumented point marked “AP-1, SCS”, thence S. 42°57″ E., a distance of 2481.2 feet to the monumented Southwest corner of the Santa Cruz Spring Tract; thence on a new line on a line following the south boundary of the Santa Cruz Spring Tract, identical with the north boundary of the Santo Domingo Pueblo Grant (Hall Survey), on a bearing of S. 87°11′ 57″ E., a distance of 1516.65 feet to the 3 Mile corner, the point and place of beginning. All containing 1,769.4 acres, more or less.

Tract B—Cañada de Santa Fe

T. 15 N., R. 7 E., NMPM, Santa Fe County, New Mexico

A portion of the La Majada Grant lying south of the following described line (said portion being bounded on the south by the north boundary of the Mesita de Juana Lopez Grant as depicted on the official plat of confirmation, as surveyed by Rollin J. Reeves, U.S. Deputy Surveyor, in October, 1876, approved by the Surveyor General for New Mexico on February 28, 1877, and confirmed by Congress by the Act of January 28, 1879 (20 Stat. 592)):

Beginning at a point on the east boundary of the La Majada Grant, whence a brass cap marked, “T 15 N R 7 E, LM, MJL, PI, S1, 1917”, bears S. 00°47′26″ W., along the East boundary of the La Majada Grant, a distance of 1440.00 feet, thence N. 77°00′02″ W., a distance of 59.54 feet to a point, thence S. 66°57′18″ W., a distance of 736.73 feet to a point, thence N. 62°26′19″ W., a distance of 640.22 feet to a point, thence S. 84°35′42″ W., a distance of 1142.33 feet to a point, thence N. 43°43′11″ W., a distance of 361.18 feet to a point, thence S. 64°27′27″ W., a distance of 864.34 feet to a point, thence S. 68°15′58″ W., a distance of 1166.64 feet to a point, thence S. 76°34′58″ W., a distance of 3404.79 feet to a point, thence N. 79°28′27″ W., a distance of 1445.63 feet to a point, thence S. 56°36′38″ W., a distance of 724.88 feet to a point of closing on the north boundary of the Mesita de Juana Lopez Grant, whence the “Beginning Corner” for the Mesita de Juana Lopez Grant bears N. 59°15′50″ W., a distance of 2300.10 feet, and whence “AP-1” of the Mesita de Juana Lopez Grant bears S. 59°15′50″ E., a distance of 1756.98 feet. All containing 297.3 acres, more or less.

Tract C, Canada de Cochiti

Sandoval County, New Mexico

T. 17 N., R. 4 E.,

Sec. 25, lots 1 to 4, inclusive, and S½S½;

Sec. 26, lots 1 to 4, inclusive, and S½S½;

Sec. 27, lots 1 to 4, inclusive, and S½S½;

Sec. 28, lots 1 to 4, inclusive, and S½S½;

Sec. 33, all;

Sec. 34, all;

Sec. 35, all;

Sec. 36, all.

Containing 3,931.68 acres, more or less;

Sandoval County, New Mexico

T. 16 N., R. 4 E.,

Sec. 4, lots 1 to 7, inclusive, SW¼NE¼, W½SE¼, S½NW¼, and SW¼;

Sec. 5, lots 1 and 6, E½E½SW¼NE¼, SE¼NE¼, E½E½W½SE¼,

and E½SE¼;

Sec. 8, E½E½, and E½E½W½E½;

Sec. 9, lots 5 to 9, inclusive, and W½.

Containing 1,395.37 acres, more or less.

All of Tract C containing 5,327.05 acres, more or less.

The determination of the Assistant Secretary—Indian Affairs that this is a mandatory acquisition is final for the Department and can only be appealed to the Federal District Court. This notice will also serve as the final agency determination to take the land into trust and that the Secretary shall acquire title to the land no sooner than 30 days following publication of this document in the Federal Register.

Dated: June 25, 2012.
Donald E. Laverdure,
Acting Assistant Secretary—Indian Affairs.

[FR Doc. 2012-16415 Filed 7-3-12; 8:45 am]

BILLING CODE 4310-W7-P